INTERNATIONAL TRADE COMMISSION

[Investigation Nos. 731-TA-1014, 1016, and 1017 (Second Review)]

Polyvinyl Alcohol From China, Japan, and Korea: Revised Schedule for Full Five-Year Reviews

AGENCY: United States International Trade Commission.

ACTION: Notice.

DATES: Effective Date: January 28, 2015.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: Effective November 13, 2014, the Commission established a schedule for the conduct of the subject full five-year reviews (79 FR 69127, November 20, 2014). The Commission is revising its schedule.

The Commission's new schedule for the reviews is as follows: Requests to appear at the hearing must be filed with the Secretary to the Commission not later than March 4, 2015; the prehearing conference, if needed, will be held on March 5, 2015; the deadline for filing prehearing briefs is March 3, 2015; the hearing will be held at the U.S. International Trade Commission Building at 9:30 a.m. on March 10, 2015; the deadline for filing posthearing briefs is March 18, 2015; the Commission will make its final release of information on April 21, 2015; and final party comments are due on April 23, 2015.

For further information concerning these reviews see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: February 2, 2015.
Lisa R. Barton,
Secretary to the Commission.

[FR Doc. 2015-02286 Filed 2-4-15; 8:45 am]

BILLING CODE 7020-02-P